DEPARTMENT OF TRANSPORTATION

Federal Aviation Administration

Public Notice for a Change in Use of Aeronautical Property at Los Angeles International Airport, Los Angeles, California

AGENCY: Federal Aviation Administration (FAA), DOT.

ACTION: Request for public comment.

SUMMARY: The Federal Aviation Administration (FAA) is requesting public comment on Los Angeles World Airports' (LAWA) request to change approximately 5 acres of airport property from aeronautical use to non-aeronautical use.

The property is located at the northeast intersection of Westchester Parkway and Falmouth Avenue. The property is currently vacant land with no structures onsite. LAWA requests to develop the land with the Argo Drain Sub-Basin Facility. The Sub-Basin Facility is primarily an underground storm water treatment facility designed to potentially allow open space uses on the surface. The Sub-Basin Facility also includes two above-ground elements: A pump facility and blower building.

Documents reflecting the LAWA's request are available, by appointment only, at the FAA Los Angeles Airports District Office.

DATES: Comments must be received on or before March 5, 2018.

ADDRESSES: Documents are available for review at the FAA Los Angeles Airports District Office, 15000 Aviation Boulevard, Room 3000, Lawndale, CA 90261, 310-725-3608. Written comments on LAWA's request must be delivered or mailed, 2 copies to: Lemuel del Castillo, 15000 Aviation Boulevard Room 3000, Lawndale, CA 90261, 310-725-3651.

FOR FURTHER INFORMATION CONTACT: Lemuel del Castillo, 15000 Aviation Boulevard, Room 3000, Lawndale, CA 90261, 310-725-3651.

SUPPLEMENTARY INFORMATION: Section 125 of The Wendell H. Ford Aviation Investment and Reform Act for the 21st Century (AIR-21) requires the FAA to provide an opportunity for public notice and comment prior to the “waiver” or “modification” of a sponsor's Federal obligation to use certain airport land for aeronautical purposes.

The following is a brief overview of the request: The project site is located within the City of Los Angeles, on LAWA's property, adjacent to LAX. The project site is located on the east and west side of Falmouth Avenue, just north of Westchester Parkway. The project site is vacant land with no structures currently onsite. LAWA requests to develop the land with the Argo Drain Sub-Basin Facility (Sub-Basin Facility) to address airport environmental compliance needs. The Sub-Basin Facility is primarily an underground storm water treatment facility designed to potentially allow open space uses on the surface. The Sub-Basin Facility also includes two above-ground elements: a pump facility and blower building. LAWA's industrial areas, existing and future capitals improvement projects will need multiple independent storm water treatment facilities. This project will avoid the construction of multiple independent facilities. The Argo-Drain Sub-Basin will allow LAWA to achieve a campus-wide approach to compliance with Low Impact Development requirements. It will also assist with the overall compliance strategy for Industrial General Permit requirements. LAWA and Los Angeles Bureau of Sanitation will have a lease agreement in place in order to address the share of financial responsibility for the Sub-Basin Facility.

Issued in Lawndale, California, on January 23, 2018.
David F. Cushing,
Manager, Los Angeles Airports District Office, Western-Pacific Region.

[FR Doc. 2018-02014 Filed 1-31-18; 8:45 am]

BILLING CODE 4910-13-P